DEPARTMENT OF JUSTICE

Notice of Lodging of Proposed Consent Decree Under the Clean Air Act

On May 21, 2018, the Department of Justice lodged a proposed consent decree with the United States District Court for the Northern District of Georgia in the lawsuit entitled United States v. MFG Chemical, LLC, Civil Action Number 4:18-cv-00121-HLM. The proposed consent decree would resolve claims set forth in the complaint filed in this lawsuit, asserted by the United States against Defendant MFG Chemical, LLC (“MFG”) pursuant to Section 112(r)(1) of the Clean Air Act (“CAA”), 42 U.S.C. 7412(r)(1), with respect to MFG's chemical manufacturing and processing facility located at 117 Callahan Road SE, Dalton, Georgia (“Facility”). The claims alleged in the complaint pertain to a chemical explosion at the Facility on May 21, 2012, and are based on MFG's failure to identify and address the hazards associated with the batch manufacture of a chemical compound known as coagulant 129, in violation of the General Duty Clause (“GDC”) of the CAA. The proposed consent decree would require MFG to pay a civil penalty of $400,000 as well as perform injunctive relief designed to bring MFG into compliance with the GDC and to minimize the risk of future problems at the Facility.

The publication of this notice opens a period for public comment on the proposed consent decree and proposed settlement agreement. Comments should be addressed to the Assistant Attorney General, Environment and Natural Resources Division, and should refer to United States v. MFG Chemical, LLC, Civil Action Number 4:18-cv-00121-HLM, D.J. Ref. No. 90-5-2-1-08683/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611

During the public comment period, the proposed consent decree and proposed settlement agreement may be examined and downloaded at this Justice Department website: https://www.justice.gov/enrd/consent-decrees. We will provide a paper copy of these documents upon written request and payment of reproduction costs. Please mail your request and payment to: Consent Decree Library, U.S. DOJ—ENRD, P.O. Box 7611, Washington, DC 20044-7611.

Please enclose a check or money order for $7.75 (25 cents per page reproduction cost) payable to the United States Treasury.

Henry Friedman,
Assistant Section Chief, Environmental Enforcement Section, Environment and Natural Resources Division.

[FR Doc. 2018-11359 Filed 5-25-18; 8:45 am]

BILLING CODE 4410-15-P